DEPARTMENT OF TRANSPORTATION

Federal Aviation Administration

14 CFR Part 39

[Docket No. FAA-2015-3631; Directorate Identifier 2015-NM-060-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for certain Airbus Model A330-200 and -300 series airplanes; Model A330-200 Freighter series airplanes; and Model A340-200, -300, -500, and -600 series airplanes. The NPRM proposed to require modifying the cockpit door frame structure, installing bonding-leads to the upper cockpit door frame, and modifying the upper cockpit door plate cover. The NPRM was prompted by reports of chafed wiring at the upper left corner of the cockpit door. The affected wire bundle was not grounded on the cockpit door frame. This action revises the NPRM by also requiring, for certain airplanes, installing a noise-reduced cockpit door locking system (CDLS). We are proposing this supplemental NPRM (SNPRM) to prevent electrical shock injury to persons contacting the cockpit door. Since these actions impose an additional burden over those proposed in the NPRM, we are reopening the comment period to allow the public the chance to comment on these proposed changes.

DATES: We must receive comments on this SNPRM by July 21, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this SNPRM, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-3631; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2015-3631; Directorate Identifier 2015-NM-060-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued a notice of proposed rulemaking (NPRM) to amend 14 CFR part 39 by adding an AD that would apply to certain Airbus Model A330-200 and -300 series airplanes; Model A330-200 Freighter series airplanes; and Model A340-200, -300, -500, and -600 series airplanes. The NPRM published in the Federal Register on September 18, 2015 (80 FR 56405) (“the NPRM”). The NPRM was prompted by reports of chafed wiring at the upper left corner of the cockpit door. The affected wire bundle was not grounded on the cockpit door frame. The NPRM proposed to require modifying the cockpit door frame structure, installing bonding-leads to the upper cockpit door frame, and modifying the upper cockpit door plate cover.

Actions Since Previous NPRM Was Issued

Since we issued the NPRM, new service information has been issued that specifies, for certain airplanes, prior or concurrent actions of installing a noise-reduced CDLS. We have determined this installation is necessary to address the identified unsafe condition.

The European Aviation Safety Agency (EASA), which is the Technical Agent for the Member States of the European Union, has issued EASA Airworthiness Directive 2015-0037, dated March 2, 2015 (referred to after this as the Mandatory Continuing Airworthiness Information, or “the MCAI”), to correct an unsafe condition for certain Airbus Model A330-200 and -300 series airplanes; Model A330-200 Freighter series airplanes; and Model A340-200, -300, -500, and -600 series airplanes. The MCAI states:

An operator has reported chafed wiring at the upper left corner of the cockpit door. The investigation concluded that the affected wire bundle, which supplies a voltage of 115V [volt] AC [alternating current], was not grounded on the cockpit door frame as part of the design of A330 and A340 aeroplanes.

This condition, if not corrected, could result in injury [electrical shock], in case any person gets in contact with the door frame.

Prompted by these findings, Airbus issued SB [service bulletin] A330-25-3534, SB A340-25-4349 and SB A340-25-5212 to provide instructions to modify the electrical bonding of the cockpit door.

For the reasons described above, this [EASA] AD requires modification of the cockpit door frame structure, installation of bonding-leads to the upper cockpit door frame and modification of the upper cockpit door plate cover.

Required actions for certain airplanes include installation of a noise-reduced CDLS.

You may examine the MCAI in the AD docket on the Internet at http://www.regulations.gov by searching for and locating Docket No. FAA-2015-3631.

Related Service Information Under1 CFR Part 51

Airbus has issued the following service information.

• Service Bulletin A330-25-3213, Revision 01, dated April 25, 2005. This service information describes procedures for modification of the upper cockpit door plate cover.

• Service Bulletin A330-25-3254, Revision 02, dated December 13, 2004. This service information describes procedures for installing a noise-reduced CDLS.

• Service Bulletin A330-25-3534, Revision 02, dated May 18, 2015. This service information describes procedures for modifying the cockpit door frame structure and installing bonding-leads to the upper cockpit door frame.

• Service Bulletin A340-25-4217, Revision 01, dated April 25, 2005. This service information describes procedures for modification of the upper cockpit door plate cover.

• Service Bulletin A340-25-4349, Revision 02, dated September 4, 2015. This service information describes procedures for modifying the cockpit door frame structure and installing bonding-leads to the upper cockpit door frame.

• Service Bulletin A340-25-5046, Revision 02, dated February 5, 2007. This service information describes procedures for modification of the upper cockpit door plate cover.

• Service Bulletin A340-25-5212, Revision 01, dated October 27, 2014. This service information describes procedures for modifying the cockpit door frame structure and installing bonding-leads to the upper cockpit door frame.

This service information is reasonably available because the interested parties have access to it through their normal course of business or by the means identified in the ADDRESSES section.

Comments

We gave the public the opportunity to participate in developing this proposed AD. We considered the comments received.

Requests To Refer to Revised Service Information

An anonymous commenter and Delta Air Lines (DAL) requested that we reference revised service information. DAL requested that we refer to Airbus Service Bulletin A330-25-3534, Revision 02, dated May 18, 2015, for accomplishing the actions in paragraphs (g) and (h) of the proposed AD (in the NPRM). The anonymous commenter requested that we refer to Airbus Service Bulletin A340-25-4349, Revision 02, dated September 4, 2015, in paragraphs (g)(2) and (h)(2) of the proposed AD (in the NPRM).

We partially agree with the commenters' requests. We agree to refer to Airbus Service Bulletin A330-25-3534, Revision 02, dated May 18, 2015; and Airbus Service Bulletin A340-25-4349, Revision 02, dated September 4, 2015; in paragraph (g) of this proposed AD. This service information contains updated accomplishment instructions. Airbus Service Bulletin A330-25-3534, Revision 02, dated May 18, 2015, also revises the specified concurrent requirements.

However, in paragraph (h) of this proposed AD, we have determined that Airbus Service Bulletin A330-25-3534, Revision 02, dated May 18, 2015; and Airbus Service Bulletin A340-25-4349, Revision 02, dated September 4, 2015; are not appropriate sources of service information for accomplishing the proposed concurrent actions. Instead, we refer to Airbus Service Bulletin A330-25-3213, Revision 01, dated April 25, 2005; Airbus Service Bulletin A340-25-4217, Revision 01, dated April 25, 2005; and Airbus Service Bulletin A340-25-5046, Revision 02, dated February 5, 2007; for accomplishing the concurrent action of modifying the upper cockpit door plate cover. We refer to Airbus Service Bulletin A330-25-3534, Revision 02, dated May 18, 2015; and Airbus Service Bulletin A340-25-4349, Revision 02, dated September 4, 2015; in paragraphs (h)(1) and (h)(2) of this AD, respectively, in order to identify the affected airplanes.

We have added a new paragraph (j) to this proposed AD to provide credit for actions accomplished using Airbus Service Bulletin A330-25-3534, Revision 01, dated October 23, 2014; Airbus Service Bulletin A330-25-3213, dated October 12, 2004; and Airbus Service Bulletin A340-25-4217, dated October 12, 2004. We have reidentified the subsequent paragraphs accordingly.

DAL also requested that we approve using later issued revisions of Airbus Service Bulletin A330-25-3534.

We disagree with approving unspecified later revisions of the service information. When referring to a specific service bulletin in an AD, using the phrase, “or later FAA-approved revisions,” violates Office of the Federal Register regulations for approving materials that are incorporated by reference. Once we issue a final rule, affected operators may request approval to use a later revision of the referenced service bulletin as an alternative method of compliance (AMOC), under the provisions of paragraph (k)(1) of this proposed AD.

Requests To Extend Compliance Time

DAL requested that we extend the compliance time from 24 months to 30 months. DAL stated that a 24-month compliance time does not provide the necessary time to procure parts and develop internal paperwork to accomplish the modifications. DAL explained that mandating a 24-month compliance time will result in several airplanes being missed during scheduled maintenance, which will result in requiring costly special visits that adversely impact passenger operations. DAL also stated it had not experienced problems with the cockpit door bonding during a service history of over 12 years and noted there is higher awareness to electrical wiring interconnect system (EWIS) issues, making wire chafing problems less likely. DAL concluded that a moderate extension to the compliance time should provide a sufficient level of safety without burdening the airlines unnecessarily.

We disagree with DAL's request. The compliance time has been determined by EASA and Airbus through the specific analysis to ensure continued operational safety of the affected airplanes. If an operator wishes to extend the compliance time, this can be done through a specific request for approval of an AMOC under the provisions of paragraph (k)(1) of this proposed AD. The operator must justify in the request that an extension of the compliance time will provide an adequate level of safety (such as by accomplishment of specific inspections or tasks).

Airbus has specified a standard lead time of 90 calendar days from the date of a purchase order for component kits, which ensures sufficient time for planning the appropriate operator's action to modify the airplane and comply with this proposed AD. We have not changed this proposed AD in this regard.

Requests To Allow Alternative Consumable Materials

DAL requested that we allow the use of industry standard consumable materials already stocked by the airlines, instead of burdening the airlines with procuring the specific consumables specified in the service information. DAL stated that there are many industry standard materials that fulfill the roles of each of the specific materials called out in the service bulletins that are used daily by every airline. DAL also stated that the use of these industry standard consumable materials will in no way reduce the level of safety of the modifications.

We disagree with DAL's request. DAL did not provide details on the specific consumable materials it proposes to use for the actions required by this proposed AD and did not provide any technical justification that the use of other consumable materials would provide an equivalent level of safety. In addition, for service information that contains “Required for Compliance” (RC) sections in the Accomplishment Instructions, the consumable materials in the RC sections must be used to comply with the AD requirements. Completion of all steps in accordance with the RC sections ensures that the actions required by this proposed AD address the identified unsafe condition. Operators may request approval for the use of other consumable materials through the AMOC process, under the provisions of paragraph (k)(1) of this proposed AD. We have not changed this proposed AD in this regard.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type designs.

Certain changes described above expand the scope of the NPRM. As a result, we have determined that it is necessary to reopen the comment period to provide additional opportunity for the public to comment on this SNPRM.

Costs of Compliance

We estimate that this SNPRM affects 70 airplanes of U.S. registry.

We estimate that it would take about 53 work-hours per product to comply with the new basic requirements of this SNPRM. The average labor rate is $85 per work-hour. Required parts would cost about $2,430 per product. Based on these figures, we estimate the cost of this SNPRM on U.S. operators to be $485,450, or $6,935 per product.

According to the manufacturer, some of the costs of this SNPRM may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-3631; Directorate Identifier 2015-NM-060-AD.

(a) Comments Due Date

We must receive comments by July 21, 2016.

(b) Affected ADs

None.

(c) Applicability

This AD applies to Airbus airplanes, certificated in any category, identified in paragraphs (c)(1), (c)(2), and (c)(3) of this AD, except airplanes on which Airbus Modification 203066, Modification 203074, or Modification 203372 has been embodied in production.

(1) Model A330-201, -202, -203, -223, -223F, -243, -243F, -301, -302, -303, -321, -322, -323, -341, -342, and -343 airplanes; all manufacturer serial numbers (MSNs); if modified in-service as specified in Airbus Service Bulletin A330-25-3161, or in production with Airbus Modification 50014.

(2) Model A340-211, -212, -213, -311, -312, and -313 airplanes; all MSNs, if modified in-service as specified in Airbus Service Bulletin A340-25-4181, or in production with Airbus Modification 50014.

(3) Model A340-541 airplanes and Model A340-642 airplanes; all MSNs.

(d) Subject

Air Transport Association (ATA) of America Code 25, Equipment/furnishings.

(e) Reason

This AD was prompted by reports of chafed wiring at the upper left corner of the cockpit door. The affected wire bundle was not grounded on the cockpit door frame. We are issuing this AD to prevent electrical shock injury to persons contacting the cockpit door.

(f) Compliance

Comply with this AD within the compliance times specified, unless already done.

(g) Door Modification and Installation

Within 24 months after the effective date of this AD, modify the cockpit door frame structure and install bonding-leads to the upper cockpit door frame, in accordance with the Accomplishment Instructions of the applicable service information identified in paragraphs (g)(1), (g)(2), and (g)(3) of this AD.

(1) Airbus Service Bulletin A330-25-3534, Revision 02, dated May 18, 2015.

(2) Airbus Service Bulletin A340-25-4349, Revision 02, dated September 4, 2015.

(3) Airbus Service Bulletin A340-25-5212, Revision 01, dated October 27, 2014.

(h) Cover Plate Modification of the Upper Flight Deck Door

Except for airplanes on which Airbus Modification 52869 or Modification 53292 has been embodied in production: Prior to or concurrently with accomplishing the actions required by paragraph (g) of this AD, modify the upper cockpit door plate cover, in accordance with the Accomplishment Instructions of the applicable service information identified in paragraphs (h)(1), (h)(2), and (h)(3) of this AD.

(1) For configuration 1 airplanes identified in Airbus Service Bulletin A330-25-3534, Revision 02, dated May 18, 2015: Airbus Service Bulletin A330-25-3213, Revision 01, dated April 25, 2005.

(2) For airplanes identified in Airbus Service Bulletin A340-25-4349, Revision 02, dated September 4, 2015: Airbus Service Bulletin A340-25-4217, Revision 01, dated April 25, 2005.

(3) For airplanes identified in Airbus Service Bulletin A340-25-5212, Revision 01, dated October 27, 2014: Airbus Service Bulletin A340-25-5046, Revision 02, dated February 5, 2007.

(i) Additional Concurrent Action for Certain Airplanes

Prior to or concurrently with accomplishing the actions required by paragraph (g) of this AD: For configuration 1 airplanes identified in Airbus Service Bulletin A330-25-3534, Revision 02, dated May 18, 2015, install the noise-reduced cockpit door locking system (CDLS), in accordance with the Accomplishment Instructions of Airbus Service Bulletin A330-25-3254, Revision 02, dated December 13, 2004.

(j) Credit for Previous Actions

(1) This paragraph provides credit for actions required by paragraph (g) of this AD, if those actions were performed before the effective date of this AD using Airbus Service Bulletin A330-25-3534, Revision 01, dated October 23, 2014; or Airbus Service Bulletin A340-25-4349, Revision 01, dated October 27, 2014, as applicable. These service bulletins are not incorporated by reference in this AD.

(2) This paragraph provides credit for actions required by paragraph (h) of this AD, if those actions were performed before the effective date of this AD using the applicable service information specified in paragraphs (j)(2)(i) through (j)(2)(iv) of this AD. This service information is not incorporated by reference in this AD.

(i) Airbus Service Bulletin A330-25-3213, dated October 12, 2004.

(ii) Airbus Service Bulletin A340-25-4217, dated October 12, 2004.

(iii) Airbus Service Bulletin A340-25-5046, dated October 12, 2004.

(iv) Airbus Service Bulletin A340-25-5046, Revision 01, dated May 11, 2005.

(3) This paragraph provides credit for actions required by paragraph (i) of this AD, if those actions were performed before the effective date of this AD using Airbus Service Bulletin A330-25-3254, dated October 25, 2004; or Airbus Service Bulletin A330-25-3254, Revision 01, dated December 3, 2004. This service information is not incorporated by reference in this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA Airworthiness Directive 2015-0037, dated March 2, 2015, for related information. This MCAI may be found in the AD docket on the Internet at http://www.regulations.gov by searching for and locating Docket No. FAA-2015-3631.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on May 20, 2016.
Victor Wicklund,
Acting Manager, Transport Airplane Directorate, Aircraft Certification Service.

[FR Doc. 2016-13049 Filed 6-3-16; 8:45 am]

BILLING CODE 4910-13-P